DEPARTMENT OF ENERGY

Energy Information Administration

Agency Information Collection Activities: Proposed Collection; Comment Request

AGENCY: Energy Information Administration (EIA), Department of Energy (DOE).

ACTION: Agency information collection activities: proposed collection; comment request.

SUMMARY: The EIA is soliciting comments on the proposed new survey, entitled the “Monthly Biodiesel Production Survey, EIA-22M.” When fielded, beginning in 2009, this new form will collect information on the status, production, feedstock inputs, sales, revenue, and stocks of biodiesel from each biodiesel plant. In addition, the EIA will be attaching a one-time “Supplement to EIA Biodiesel Production Survey, EIA-22S” to the first monthly survey form sent to producers. The purpose of the supplement is to collect annual biodiesel and co-product production data for 2006, 2007, and 2008.

DATES: Comments must be filed by June 27, 2008. If you anticipate difficulty in submitting comments within that period, contact the person listed below as soon as possible.

ADDRESSES: Send comments to: Mary Joyce, Coal, Nuclear, and Renewable Fuels Division, (EI-52), Forrestal Building, U.S. Department of Energy, Washington, DC 20585-0670. Mary Joyce may be contacted by telephone at (202) 586-1468, FAX at (202) 287-1946, or e-mail at mary.joyce@eia.doe.gov.

FOR FURTHER INFORMATION CONTACT: Requests for additional information should be directed to Marie LaRiviere. Marie LaRiviere may be contacted by telephone at (202) 586-1475, FAX at (202) 287-1946, or e-mail at marie.lariviere@eia.doe.gov. Copies of the EIA-22M and EIA-22S forms and instructions can be found at http://www.eia.doe.gov/fuelrenewable.html.

SUPPLEMENTARY INFORMATION:

I. Background

II. Current Actions

III. Request for Comments

I. Background

The Federal Energy Administration Act of 1974 (Pub. L. No. 93-275, 15 U.S.C. 761 et seq.) and the DOE Organization Act (Pub. L. No. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer-term domestic demands.

The EIA, as part of its effort to comply with the Paperwork Reduction Act of 1995 (Pub. L. 104-13, 44 U.S.C. 3501, et seq.), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) under Section 3507(a) of the Paperwork Reduction Act of 1995.

The proposed form EIA-22M will collect information on plant location, capacity, and operating status; biodiesel and co-product production, feedstock inputs, sales, revenues, tax credits and end of month stocks for each biodiesel plant. Section 1508 of the Energy Policy Act of 2005 (EPACT 2005) charges EIA “* * * to survey and publish monthly the renewable fuels demand in the motor vehicle fuels market.” To accomplish this, EIA will need to collect monthly data on the production, blending, demand, market price, and conduct other analysis for renewable motor vehicle fuels, including biodiesel. Subsection 2 of Section 1508 also directs EIA to collect, or estimate, similar data for the 5 years prior to survey implementation. EIA-22M will fulfill this Congressional mandate by collecting monthly data beginning in 2009. Data for years 2004 and 2005 have already been estimated. The form EIA-22S will collect the annual biodiesel and co-product production data from 2006, 2007, and 2008. Additionally, the new survey will carry out the EIA's mission of presenting relevant statistical data to the public. Very little statistical data is currently collected on the biodiesel industry; therefore this survey will serve as the unique source of non-biased statistical data for the biodiesel industry as it continues to grow.

Please refer to the proposed forms and instruction for more information about the purpose, who must report, when to report, where to submit, the elements to be reported, detailed instructions, provisions for confidentiality, and uses (including possible nonstatistical uses) of the information. For instructions on obtaining materials, see the For Further Information Contact section.

II. Current Actions

EIA is proposing a new, mandatory survey, EIA-22M, that will collect information from all commercial biodiesel producers in the United States. Once the new form is fielded, EIA will continue to conduct the survey on a monthly basis. Attached to the first monthly form will be EIA-22S to collect annual data from 2006, 2007, and 2008. The EIA-22S will be sent only the first time that a producer completes the EIA-22M. Respondents who are added to the frame will be required to complete EIA-22S only once. It will not be submitted to producers more than once.

Forms EIA-22M and EIA-22S, along with instructions, can be found at http://www.eia.doe.gov/fuelrenewable.html.

III. Request for Comments

Prospective respondents and other interested parties should comment on the actions discussed in item II. The following guidelines are provided to assist in the preparation of comments.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. What actions could be taken to help ensure and maximize the quality, objectivity, utility, and integrity of the information to be collected?

B. Are the instructions and definitions clear and sufficient? If not, which instructions need clarification?

C. Can the information be submitted by the due date?

D. Public reporting burden for this collection is estimated to be 2 hours for the EIA-22M and 1 hour for the EIA-22S. The estimated burden includes the total time necessary to provide the requested information. In your opinion, how accurate is this estimate?

E. The agency estimates that the only cost to a respondent is for the time it will take to complete the collection. Will a respondent incur any start-up costs for reporting, or any recurring annual costs for operation, maintenance, and purchase of services associated with the information collection?

F. What additional actions could be taken to minimize the burden of this collection of information? EIA plans to use electronic versions of the form, along with the possibility to mail or fax the information.

G. Does any other Federal, State, or local agency collect similar information? If so, specify the agency, the data element(s), and the methods of collection.

As a Potential User of the Information Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and/or included in the request for OMB approval of the form. They also will become a matter of public record.

Statutory Authority: Section 3507(j)(1) of the Paperwork Reduction Act of 1995 (Pub. L. 104-13, 44 U.S.C. Chapter 35.), Federal Energy Administration Act of 1974 (Pub. L. 93-275, 15 U.S.C. 761 et seq.), and the DOE Organization Act (Pub. L. 95-92, 42 U.S.C. 7101 et seq.).

Issued in Washington, DC, April 22, 2008.
Jay H. Casselberry,
Agency Clearance Officer, Energy Information Administration.

[FR Doc. E8-9221 Filed 4-25-08; 8:45 am]

BILLING CODE 6450-01-P